DEPARTMENT OF TRANSPORTATION

Federal Aviation Administration

14 CFR Part 71

[Docket No. FAA-2024-2533 Airspace Docket No. 22-AAL-26]

RIN 2120-AA66

Amendment of Colored Federal Airways Green 8 (G-8), Green 10 (G-10), Green 12 (G-12), and Red 99 (R-99). Revocation of Colored Federal Airway Blue 27 (B-27) and Alaskan Very High Frequency Omnidirectional Range Federal Airway V-619 in Alaska

AGENCY: Federal Aviation Administration (FAA), DOT.

ACTION: Notice of proposed rulemaking (NPRM).

SUMMARY: This action proposes to amend Colored Federal Airways Green 8 (G-8), Green 10 (G-10), Green 12 (G-12), and Red 99 (R-99). Revocation of Colored Federal Airway Blue 27 (B-27) and Alaskan Very High Frequency Omnidirectional Range (VOR) Federal Airway V-619 in Alaska. This proposed action is due to the decommissioning of the Chinook, Fort Davis, Hotham, Oscarville, and Kachemak Nondirectional Radio Beacons (NDB) in Alaska.

DATES: Comments must be received on or before January 3, 2025.

ADDRESSES: Send comments identified by FAA Docket No. FAA-2024-2533 and Airspace Docket No. 22-AAL-26 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Steven Roff, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the airway structure as necessary to preserve the safe and efficient flow of air traffic within the National Airspace System.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Western Service Center, Federal Aviation Administration, 2200 South 216th St., Des Moines, WA 98198.

Incorporation by Reference

Colored Federal Airways are published in paragraph 6009 and Alaskan VOR Federal Airways are published in paragraph 6010(b) of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

In 2003, Congress enacted the Vision 100-Century of Aviation Reauthorization Act (Pub. L. 108-176), which established a joint planning and development office in the FAA to manage the work related to the Next Generation Air Transportation System (NextGen). Today, NextGen is an ongoing FAA-led modernization of the nation's air transportation system to make flying safer, more efficient, and more predictable.

In support of NextGen, this proposal is part of an ongoing, large, and comprehensive airway modernization project in the state of Alaska. Part of this project is to transition the Alaskan en route navigation structure away from dependency on NDBs and move to develop and improve the RNAV route structure. The FAA is planning to decommission the Chinook, Fort Davis, Hotham, Oscarville, and Kachemak NDBs in Alaska. As a result, portions of G-8, G-10, G-12, and R-99 will become unusable. Additionally, B-27 and V-619 will become unusable.

The Proposal

The FAA is proposing an amendment to 14 CFR part 71 to by amending Colored Federal Airways G-8, G-10, G-12, and R-99. Additionally, the FAA is proposing to revoke B-27 and V-619 in their entirety in Alaska. These proposed actions are due to the decommissioning of the Chinook, Fort Davis, Hotham, Oscarville, and Kachemak Nondirectional Radio Beacons (NDB) in Alaska.

G-8: G-8 currently extends between the Shemya, AK, NDB and the Kachemak, AK, NDB. The FAA is proposing to revoke a segment of G-8 between the Elfee, AK, NDB and the Kachemak NDB. The decommissioning of the Chinook and Kachemak NDBs will render these segments unusable. United States Area Navigation (RNAV) Route T-271 and V-456 serve as mitigations as they overlay the routing of G-8 between the Cold Bay, AK, VOR/Tactical Air Navigation (VORTAC) and the King Salmon, AK, VORTAC. V-321 is a mitigation for routing between the King Salmon VORTAC and the Kachemak NDB. Additionally, T-376 serves as a mitigation between the Iliamma area to the Homer, AK, VOR/distance measuring equipment (VOR/DME). As amended, G-8 would extend between the Shemya NDB and the Elfee NDB.

G-10: G-10 currently extends between the Cape Newenham, AK, NDB and the Kachemak NDB. The FAA is proposing to revoke a segment of G-10 between the Woody Island NDB and the Kachemak NDB. The decommissioning of the Kachemak NDB will render this segment of G-10 unusable. As a mitigation, T-371 and V-438 are available, overlaying or paralleling this track of G-10. As amended, G-10 would extend between the Cape Newenham NDB and the Woody Island NDB.

G-12: G-12 currently extends between the Chinook, AK, NDB and the Elfee, AK, NDB. The FAA is proposing to revoke a segment of G-12 between the Chinook NDB and the Port Heiden, AK, NDB/DME. The decommissioning of the Chinook NDB will render this segment of this route unusable. T-453 is in place as a mitigation, overlaying the existing G-12 routing. As amended, G-12 would extend between the Port Heiden NDB/DME and the Elfee NDB.

R-99: R-99 currently extends between the St. Paul Island, AK, NDB and the Kachemak, AK, NDB. The FAA is proposing to revoke a segment of R-99 between the Dutch Harbor, AK, NDB and the Kachemak NDB. The decommissioning of the Chinook and Kachemak NDBs will render this segment unusable. As mitigations for routing, T-390 overlays R-99 between the Dutch Harbor and Chinook NDBs and V-427 overlays R-99 between the Chinook and Iliamna NDB. Additionally, T-376 serves as a mitigation for routing between the Iliamna and Homer area. As amended, R-99 would extend between the Port Heiden and Dutch Harbor NDBs.

B-27: B-27 currently extends between the Woody Island, AK, NDB and the Hotham, AK, NDB. The FAA is proposing to revoke this airway in its entirety due to the decommissioning of the Chinook, Oscarville, Fort Davis, and the Hotham NDBs. As mitigations for routing, T-368 exits between the King Salmon, AK, VORTAC and the Kodiak, AK, VOR/DME, T-373 between the Bethel, AK, VORTAC and KOWOK, AK, Fix, and T-252 between the Nome, AK, VOR/DME and the Kotzebue, AK, VOR/DME. Additionally, V-506 is available and closely follows the current track of B-27.

V-619: V-619 currently extends between the Port Heiden, AK, NDB/DME and the Dillingham, AK, VOR/DME. The FAA is proposing to revoke this airway in its entirety due to the decommissioning of the Chinook, AK, NDB. Mitigations to the loss of this route are T-345 between the Port Heiden NDB/DME and the King Salmon, AK, VORTAC, V-453 between the King Salmon VORTAC and the Dillingham VOR/DME, and V-351 between the Port Heiden NDB/DME and the Dillingham VOR/DME.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, ” Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6009 Colored Federal Airways.

* * * * *

G-8 [Amended]

From Shemya, AK, NDB, 20 AGL; Mount Moffett, AK, NDB, 20 AGL; Dutch Harbor, AK, NDB, 20 AGL; INT Dutch Harbor, AK, NDB 041° and Elfee, AK, NDB 253° bearings, 20 AGL; Elfee, AK, NDB.

* * * * *

G-10 [Amended]

From Cape Newenham, AK, NDB; 20 AGL St. Paul Island, AK, NDB; 20 AGL Elfee AK, NDB; 20 AGL INT Elfee NDB 041° and Port Heiden, AK, NDB 248° bearings; 20 AGL Port Heiden NDB; 67 miles 12 AGL, 77 miles 85 MSL, 67 miles 12 AGL, Woody Island, AK, NDB.

* * * * *

G-12 [Amended]

Port Heiden, AK, NDB, 20 AGL; Borland, AK, NDB; 20 AGL; to Elfee, AK, NDB.

* * * * *

R-99 [Amended]

From St. Paul Island, AK, NDB, 20 AGL; Dutch Harbor, AK, NDB.

* * * * *

B-27 [Removed]

* * * * *

Paragraph 6010(b) Alaskan VOR Federal Airways.

* * * * *

V-619 [Removed]

* * * * *

Issued in Washington, DC, on November 13, 2024.
Richard Lee. Parks,
Manager(A), Rules and Regulations Group.

[FR Doc. 2024-26834 Filed 11-18-24; 8:45 am]

BILLING CODE 4910-13-P